DEPARTMENT OF DEFENSE

GENERAL SERVICES ADMINISTRATION

NATIONAL AERONAUTICS AND SPACE ADMINISTRATION

[OMB Control No. 9000-0077; Docket No. 2019-0003; Sequence No. 11]

Submission for OMB Review; Quality Assurance Requirements

AGENCY: Department of Defense (DOD), General Services Administration (GSA), and National Aeronautics and Space Administration (NASA).

ACTION: Notice.

SUMMARY: In accordance with the Paperwork Reduction Act of 1995 and the Office of Management and Budget (OMB) regulations, the FAR Council invites the public to comment upon a request to review and approve a revision and renewal of a previously approved information collection requirement concerning quality assurance requirements.

DATES: Submit comments on or before October 3, 2019.

ADDRESSES: Submit comments regarding this burden estimate or any other aspect of this collection of information, including suggestions for reducing this burden to: Office of Information and Regulatory Affairs of OMB, Attention: Desk Officer for GSA, Room 10236, NEOB, Washington, DC 20503 or at Oira_submission@omb.eop.gov. Additionally submit a copy to GSA by any of the following methods:

• Federal eRulemaking Portal: This website provides the ability to type short comments directly into the comment field or attach a file for lengthier comments. Go to http://www.regulations.gov and follow the instructions on the site.

• Mail: General Services Administration, Regulatory Secretariat Division (MVCB), 1800 F Street NW, Washington, DC 20405. ATTN: Ms. Mandell/IC 9000-0077, Quality Assurance Requirements.

Instructions: All items submitted must cite Information Collection 9000-0077, Quality Assurance Requirements, in all correspondence related to this collection. Comments received generally will be posted without change to http://www.regulations.gov, including any personal and/or business confidential information provided. To confirm receipt of your comment(s), please check www.regulations.gov, approximately two-to-three days after submission to verify posting (except allow 30 days for posting of comments submitted by mail).

FOR FURTHER INFORMATION CONTACT: Ms. Marilyn Chambers, Procurement Analyst, at 202-285-7380 or email marilyn.chambers@gsa.gov.

SUPPLEMENTARY INFORMATION:

A. OMB control number, Title, and any Associated Form(s)

9000-0077, Quality Assurance Requirements.

B. Needs and Uses

Supplies and services acquired under Government contracts must conform to the contract's quality and quantity requirements. FAR Part 46 prescribes inspection, acceptance, warranty, and other measures associated with quality requirements. Standard inspection clauses require the contractor to provide and maintain an inspection system that is acceptable to the Government; give the Government the right to make inspections and test while work is in process; and require the contractor to keep complete, and make available to the Government, records of its inspection work. FAR clause 52.246-15, Certificate of Conformance, is not an inspection clause, but a requirement for the contractor to certify that supplies or services furnished are of the quality specified and conform in all respects with the contract requirements.

C. Annual Burden

1. Inspection Clauses

The FAR inspection clauses are used for quality assurance depending on the type of contract and the type of product or service being provided. The corresponding quality/inspection systems the contractors are required to implement have requirements for record keeping and in some cases documenting the quality or inspection system. These clauses do not require the transmittal or sending of documentation to the Government. Instead, the Government may review these records to confirm the contract quality requirements are being met. Definitive information was not available on how often the Government requests to see these records. The time required to provide the records is estimated as follows:

Respondents: 1,590.

Total Annual Responses: 1,590.

Total Burden hours: 1,590.

2. Certificate of Conformance

FAR clause 52.246-15 is used in solicitations and contracts for supplies or services at the discretion of the contracting officer when it is in the Government's interest, small losses would be incurred in the event of a defect; or because of the contractor's reputation or past performance, it is likely that the supplies or services furnished will be acceptable and any defective work would be replaced, corrected, or repaired without contest. The clause requires the contractor to submit a prescribed certificate. The time required to submit the certificate is estimated as follows:

Respondents: 639.

Total Annual Responses: 639.

Total Burden hours: 320.

D. Public Comment

A 60-day notice published in the Federal Register at 84 FR 28813 on June 20, 2019. No comments were received.

Obtaining Copies: Requesters may obtain a copy of the information collection documents from the General Services Administration, Regulatory Secretariat Division (MVCB), 1800 F Street NW, Washington, DC 20405, telephone 202-501-4755. Please cite OMB Control No. 9000-0077, Quality Assurance Requirements, in all correspondence.

Dated: August 27, 2019.
Janet Fry,
Director, Federal Acquisition Policy, Office of Governmentwide Acquisition Policy, Office of Acquisition Policy, Office of Governmentwide Policy.

[FR Doc. 2019-18906 Filed 8-30-19; 8:45 am]

BILLING CODE 6820-EP-P